DEPARTMENT OF HEALTH AND HUMAN SERVICES

Indian Health Service

Notice of Purchased/Referred Care Delivery Area Redesignation for the Spokane Tribe of Indians in the State of Washington

AGENCY: Indian Health Service, HHS.

ACTION: Notice.

SUMMARY: Notice is hereby given that the Indian Health Service (IHS) has decided to expand the geographic boundaries of the Purchased/Referred Care Delivery Area (PRCDA) for the Spokane Tribe to include the counties of Spokane and Whitman in the State of Washington. The final PRCDA for the Spokane Tribe now includes the Washington counties of Ferry, Lincoln, Spokane, Stevens, and Whitman. The sole purpose of this expansion is to authorize additional Spokane Tribal members and beneficiaries to receive Purchased/Referred Care (PRC) services.

DATES: This expansion is effective as of the publication date of this notice.

ADDRESSES: This notice can be found at https://www.federalregister.gov. Written requests for information should be delivered to: CAPT John Rael, Director, Office of Resource Access and Partnerships, Indian Health Service, 5600 Fishers Lane, Mail Stop 10E85C, Rockville, MD 20857, or by phone at (301) 443-0969 (this is not a toll-free number).

SUPPLEMENTARY INFORMATION: The IHS provides services under regulations in effect as of September 15, 1987, and republished at 42 CFR part 136, subparts A-C. Subpart C defines a Contract Health Service Delivery Area (CHSDA), now referred to as a PRCDA, as the geographic area within which PRC will be made available by the IHS to members of an identified Indian community who reside in the PRCDA. Residence within a PRCDA by a person who is within the scope of the Indian health program, as set forth in 42 CFR 136.12, creates no legal entitlement to PRC but only potential eligibility for services. Services needed, but not available at an IHS/Tribal facility, are provided under the PRC program depending on the availability of funds, the relative medical priority of the services to be provided, and the actual availability and accessibility of alternate resources in accordance with the regulations.

The regulations at 42 CFR part 136, subpart C provide that, unless otherwise designated, a PRCDA shall consist of a county which includes all or part of a reservation and any county or counties which have a common boundary with the reservation. 42 CFR 136.22(a)(6). The regulations also provide that after consultation with the Tribal governing body or bodies on those reservations included within the PRCDA, the Secretary may from time to time, redesignate areas within the United States for inclusion in or exclusion from a PRCDA. 42 CFR 136.22(b). The regulations require that certain criteria must be considered before any redesignation is made. The criteria are as follows:

(1) The number of Indians residing in the area proposed to be so included or excluded;

(2) Whether the Tribal governing body has determined that Indians residing in the area near the reservation are socially and economically affiliated with the Tribe;

(3) The geographic proximity to the reservation of the area whose inclusion or exclusion is being considered; and

(4) The level of funding which would be available for the provision of PRC.

Additionally, the regulations require that any redesignation of a PRCDA must be made in accordance with the procedures of the Administrative Procedure Act (5 U.S.C. 553). 42 CFR 136.22(c). In compliance with this requirement, the IHS published a proposed notice of redesignation and requested public comments on August 9, 2023 (88 FR 53899). The IHS did not receive any comments to the notice of the proposed expansion.

Two other Tribes currently have PRCDAs which include one or both of the counties to be included in the Spokane Tribe's expanded PRCDA—the Coeur d'Alene Tribe (both Spokane and Whitman Counties) and the Kalispel Tribe of Indians (Spokane County only). On December 10, 2021, the Portland Area Director notified both Tribes of the Spokane Tribe's request to expand their PRCDA, and requested any comments in response. The Kalispel Tribe of Indians did not provide any comments. The Coeur d'Alene Tribe responded with objections to the proposed expansion. The Portland Area IHS engaged in further conversations and correspondence with the Coeur d'Alene Tribe throughout 2021 and 2022.

Through letters from the Spokane Tribe, dated May 31, 2022 and August 8, 2022, the Tribe expressed its support for the expansion, described the geographic proximity of Spokane and Whitman counties to the Tribe's reservation, and explained that the Tribe's reservation expanded into Spokane County in 2001 and that some of the Tribe's members reside in Whitman County.

In support of this expansion, the IHS adopts the following findings:

1. By expanding the PRCDA to include Spokane County and Whitman County, the Spokane Tribe's eligible population will be increased by an estimated 480 Tribal members. Although the Coeur d'Alene Tribe has a PRCDA which includes these two counties, the Coeur d'Alene Tribe does not provide PRC services to Spokane Tribal members residing in those counties. Expansion of the Spokane Tribe's PRCDA to include Spokane and Whitman Counties will therefore increase access to care for those individuals.

2. The IHS finds that the Tribal members within the expanded PRCDA are socially and economically affiliated with the Spokane based on letters from the Spokane Tribe, dated May 31, 2022 and August 8, 2022, which noted that the Spokane Tribal Council had determined that Tribal members residing in Spokane and Whitman counties are socially and economically affiliated with the Tribe.

3. Spokane and Whitman Counties in the State of Washington are “on or near” the reservation, as they maintain common boundaries with the current PRCDA consisting of the counties of Ferry, Lincoln, and Stevens in the State of Washington. Additionally, Spokane County includes part of the Spokane reservation, and Whitman County includes the Tribe's aboriginal territory.

4. The IHS administers the Wellpinit Service Unit PRC program and will use its existing Federal allocation for PRC to provide services to the expanded population. No additional financial resources will be allocated by the IHS to the Portland Area IHS to provide services to Spokane Tribal members residing in Spokane and Whitman Counties in the State of Washington.

An updated listing of the PRCDAs for all federally-recognized Tribes may be accessed via a link under the “Purchased/Referred Care Delivery Area” heading on the IHS PRC Resources website (https://www.ihs.gov/prc/resources).

Public Comments: The IHS did not receive any comments to the notice of the proposed expansion.

Roselyn Tso,
Director, Indian Health Service.

[FR Doc. 2023-28311 Filed 12-22-23; 8:45 am]

BILLING CODE 4165-16-P